DEPARTMENT OF COMMERCE

National Oceanic and Atmospheric Administration

[I.D. 010203E]

Marine Mammals; File No. 1026-1671

AGENCY: National Marine Fisheries Service (NMFS), National Oceanic and Atmospheric Administration (NOAA), Commerce.

ACTION: Issuance of permit.

SUMMARY: Notice is hereby given that Belinda L. Rubinstein, New England Aquarium, Central Wharf, Boston, MA 02110 has been issued a permit to take harbor seals (Phoca vitulina), harp seals (Phoca groenlandica), gray seals (Halichoerus grypus), hooded seals (Cystophora cristata) and ringed seals (Phoca hispida) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371; and

Southeast Region, NMFS, 9721 Executive Center Drive North, St. Petersburg, FL 33702-2432; phone (727)570-5301; fax (727)570-5320.

FOR FURTHER INFORMATION CONTACT: Amy Sloan or Ruth Johnson, (301)713-2289.

SUPPLEMENTARY INFORMATION: On August 5, 2002, notice was published in the Federal Register (67 FR 50632) that a request for a scientific research permit to take harbor seals, harp seals, gray seals, hooded seals, and ringed seals had been submitted by the above-named individual. The requested permit has been issued under the authority of the Marine Mammal Protection Act of 1972, as amended (16 U.S.C. 1361 et seq.), and the Regulations Governing the Taking and Importing of Marine Mammals (50 CFR part 216).

Solitary seals will be captured, tagged, sampled (including tooth extraction, blubber biopsy, blood and milk collection, anal swabs and fecal samples), and released. In addition to taking wild animals, the applicant also requests authority to sample conspecifics held in rehabilitation facilities. Samples may be exported and re-imported for analyses. The purposes of the research are to study habitat utilization using satellite telemetry and flipper tagging, determine stock association, and monitor health of phocids along the east coast of the U.S., from Maine to Virginia.

Dated: March 11, 2003.
Stephen L. Leathery,
Chief, Permits, Conservation and Education Division, Office of Protected Resources, National Marine Fisheries Service.

[FR Doc. 03-6594 Filed 3-18-03; 8:45 am]

BILLING CODE 3510-22-S